DEPARTMENT OF VETERANS AFFAIRS

[OMB Control No. 2900-0776]

Agency Information Collection Activity Under OMB Review: Artery and Vein Conditions (Vascular Diseases Including Varicose Veins) Disability Benefits Questionnaire, Hypertension Disability Benefits Questionnaire, Non-Ischemic Heart Disease (Including Arrhythmias and Surgery) Disability Benefits Questionnaire, Diabetic Peripheral Neuropathy (Diabetic Sensory-Motor Peripheral Neuropathy) Disability Benefits Questionnaire, Diabetes Mellitus Disability Benefits Questionnaire, Scars/Disfigurement Disability Benefits Questionnaire, Skin Diseases Disability Benefits Questionnaire, Amputations Disability Benefits Questionnaire, Muscles Injuries Disability Benefits Questionnaire, Temporomandibular Joint (TMJ) Conditions Disability Benefits Questionnaire, Eye Conditions Disability Benefits Questionnaire

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before December 28, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0776” in any correspondence.

FOR FURTHER INFORMATION CONTACT: Cynthia Harvey-Pryor, Enterprise Records Service (005R1B), Department of Veterans Affairs, 811 Vermont Avenue NW., Washington, DC 20420, (202) 461-5870 or email cynthia.harvey-pryor@va.gov. Please refer to “OMB Control No. 2900-0776” in any correspondence.

SUPPLEMENTARY INFORMATION:

Authority: 44 U.S.C. 3501-21.

Title: Artery and Vein Conditions (Vascular Diseases Including Varicose Veins) Disability Benefits Questionnaire (VA Form 21-0960A-2), Hypertension Disability Benefits Questionnaire (VA Form 21-0960A-3), Non-Ischemic Heart Disease (Including Arrhythmias and Surgery) Disability Benefits Questionnaire (VA Form 21-0960A-4), Diabetic Peripheral Neuropathy (Diabetic Sensory-Motor Peripheral Neuropathy) Disability Benefits Questionnaire (VA Form 21-0960C-4), Diabetes Mellitus Disability Benefits Questionnaire (VA Form 21-0960E-1), Scars/Disfigurement Disability Benefits Questionnaire (VA Form 21-0960F-1), Skin Diseases Disability Benefits Questionnaire (VA Form 21-0960F-2), Amputations Disability Benefits Questionnaire (VA Form 21-0960M-1), Muscles Injuries Disability Benefits Questionnaire (VA Form 21-0960M-10), Temporomandibular Joint (TMJ) Conditions Disability Benefits Questionnaire (VA Form 21-0960M-15), Eye Conditions Disability Benefits Questionnaire (VA Form 21-0960N-2)

OMB Control Number: 2900-0776.

Type of Review: Extension of a currently approved collection.

Abstract: VA Form 21-0960 series is used to gather necessary information from a claimant's treating physician regarding the results of medical examinations. VA gathers medical information related to the claimant that is necessary to adjudicate the claim for VA disability benefits. The Disability Benefit Questionnaire title will include the name of the specific disability for which it will gather information. VAF 21-0960A-2, Artery and Vein Conditions vascular diseases including varicose veins) Disability Benefits Questionnaire, will gather information related to the claimant's diagnosis of arteries, veins, and/or peripheral vascular disease; VAF 21-0960A-3, Hypertension, Disability Benefits Questionnaire, will gather information related to the claimant's diagnosis of hypertension; VAF 21-0960A-4, Non-ischemic Heart Disease (including Arrhythmias and Surgery) Disability Benefits Questionnaire, will gather information related to the claimant's diagnosis of any non-ischemic heart disease; VAF 21-0960C-4, Diabetic Peripheral Neuropathy (diabetic sensory-motor peripheral neuropathy) Disability Benefits Questionnaire will gather information related to the claimant's diagnosis of a diabetic sensory-motor peripheral neuropathy condition; VAF 21-0960E-1, Diabetes Mellitus Disability Benefits Questionnaire, will gather information related to the claimant's diagnosis of diabetes mellitus; VAF 21-0960F-1, Scars/Disfigurement Disability Benefits Questionnaire will gather information related to the claimant's diagnosis of any scars or disfigurement; VAF 21-0960F-2, Skin Diseases Disability Benefits Questionnaire, will gather information related to the claimant's diagnosis of any skin disease. VAF 21-0960M-1, Amputations Disability Benefits Questionnaire, will gather information related to the claimant's amputations; VAF 21-0960M-10, Muscle Injuries Disability Benefits Questionnaire, will gather information related to the claimant's diagnosis of a muscle injury disability. VAF 21-0960M-15, Temporomandibular Joint (TMJ) Conditions Disability Benefits Questionnaire, will gather information related to the claimant's diagnosis of temporomandibular joint dysfunction or TMJ. VAF 21-0960N-2, Eye Conditions Disability Benefits Questionnaire will gather information related to the claimant's diagnosis of an eye condition.

An agency may not conduct or sponsor, and a person is not required to respond to a collection of information unless it displays a currently valid OMB control number. The Federal Register Notice with a 60-day comment period soliciting comments on this collection of information was published at 82 FR 79 on April 26, 2017, pages 19311 and 19312.

Affected Public: Individuals or Households.

Estimated Annual Burden: 162,500.

Estimated Average Burden per Respondent: 25 minutes.

Frequency of Response: One time.

Estimated Number of Respondents: 400,000.

By direction of the Secretary.
Cynthia Harvey-Pryor,
Department Clearance Officer, Office of Quality, Privacy and Risk, Department of Veterans Affairs.

[FR Doc. 2017-25592 Filed 11-27-17; 8:45 am]

BILLING CODE 8320-01-P